DEPARTMENT OF VETERANS AFFAIRS

38 CFR Part 17

RIN 2900-AO21

Criteria for a Catastrophically Disabled Determination for Purposes of Enrollment; Correction

AGENCIES: Department of Veterans Affairs.

ACTION: Final rule; correction.

SUMMARY: The Department of Veterans Affairs published in the Federal Register on December 3, 2013, a document amending its regulation concerning the manner in which VA determines that a veteran is catastrophically disabled for purposes of enrollment in priority group 4 for VA health care. The Regulation Identifier Number, 2900-AO21, in the heading was typed incorrectly. This document corrects the Regulation Identifier Number.

DATES: Effective: March 21, 2014.

FOR FURTHER INFORMATION CONTACT: Consuela Benjamin, Regulations Development Coordinator, Regulation Policy and Management, Office of the General Counsel, Department of Veterans Affairs, 810 Vermont Avenue NW., Washington, DC 20420, (202) 461-4902. (This is not a toll-free number.)

SUPPLEMENTARY INFORMATION:

Correction

In final rule document 2013-28858, published on December 3, 2013 at 78 FR 72576, make the following correction:

On page 72576, in the third column, correct the Regulation Identifier Number (RIN) in the heading to read “RIN 2900-AO21” instead of “RIN 2900-A021”.

Dated: March 18, 2014.
Janet Coleman,
Acting Chief, Regulations Development, Tracking, and Control, Regulation Policy and Management, Office of the General Counsel, Department of Veterans Affairs.

[FR Doc. 2014-06222 Filed 3-20-14; 8:45 am]

BILLING CODE 8320-01-P